DEPARTMENT OF THE INTERIOR

National Park Service

[NPS-WASO-NRNHL-DTS#-37620; PPWOCRADI0, PCU00RP14.R50000]

National Register of Historic Places; Notification of Pending Nominations and Related Actions

AGENCY: National Park Service, Interior.

ACTION: Notice.

SUMMARY: The National Park Service is soliciting electronic comments on the significance of properties nominated before March 9, 2024, for listing or related actions in the National Register of Historic Places.

DATES: Comments should be submitted electronically by April 1, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 9, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

CONNECTICUT

Hartford County

Trinity College Long Walk Historic District, 300 Summit Street, Hartford, SG100010225

FLORIDA

Sarasota County

Newtown Historic District, Bounded by: Myrtle St., Washington Blvd., 18th St., and Seminole Gulf Railway, Sarasota, SG100010223

ILLINOIS

Cook County

Immanuel Lutheran Church and Parsonage, 1124-1134 South Ashland Avenue, Chicago, SG100010215

Craig and Estella Hazelwood House, 16 Canterbury Court, Wilmette, SG100010216

Our Lady of the Holy Rosary Church/Holy Rosary Church, 11300 S Dr. Martin Luther King Jr., Drive, Chicago, SG100010217

Madison County

Mitchell Archeological Site (Boundary Increase), Address Restricted, Mitchell vicinity, BC100010214

Peoria County

Zion Episcopal Church, 205 East Van Buren Street, Brimfield, SG100010213

Perry County

Paradise Missionary Baptist Church, 9023 State Route 154, Tamaroa vicinity, SG100010212

Winnebago County

Rockford Gas Light & Coke Fitting and Meter Shops Building, 915 Cedar Street, Rockford, SG100010211

LOUISIANA

Claiborne Parish

Mt. Sinai Rosenwald School, (Rosenwald Schools in Louisiana, 1917—1932MPS), 1800 Parish Road 234, Bernice vicinity, MP100010221

Fellowship Rosenwald School Teacher's Home, (Rosenwald Schools in Louisiana, 1917—1932MPS), 1138 Fellowship Church Road, Lillie vicinity, MP100010222

MICHIGAN

Ingham County

Washington Apartments, 927 South Washington Avenue, Lansing, SG100010207

MONTANA

Silver Bow County

Harding Way Historic District, MP 75.0 to Milepost 80.1, Butte vicinity, SG100010219

Yellowstone County

Crystal Ice & Fuel Company, 19 North 22nd Street, Billings, SG100010218

NORTH CAROLINA

Guilford County

One Plaza Center, 101 S Main Street, High Point, SG100010204

TEXAS

Medina County

Dan's Meat Market and Saloon, 1303 Lorenzo Street, Castroville, SG100010210

Taylor County

Borden Company, 309 South Pioneer Drive, Abilene, SG100010209

WISCONSIN

Lafayette County

Welty, Daniel and Catherine Barn, 11736 Fork Road, Darlington, SG100010205

Marathon County

Zion Lutheran Church, 709 North 6th Street, Wausau, SG100010206

Additional documentation has been received for the following resource(s):

TENNESSEE

Warren County

Northcutt Plantation (Additional Documentation), 2374 Wheeler Road, McMinnville vicinity, AD75001795

Nomination(s) submitted by Federal Preservation Officers:

The State Historic Preservation Officer reviewed the following nomination(s) and responded to the Federal Preservation Officer within 45 days of receipt of the nomination(s) and supports listing the properties in the National Register of Historic Places.

CALIFORNIA

San Bernardino County

Watson Buttes, Address Restricted, Essex vicinity, SG100010224

Authority: Section 60.13 of 36 CFR part 60.

Sherry A. Frear,
Chief, National Register of Historic Places/National Historic Landmarks Program.

[FR Doc. 2024-05575 Filed 3-14-24; 8:45 am]

BILLING CODE 4312-52-P